DEPARTMENT OF THE INTERIOR

Bureau of Land Management, Interior

[MT-070-1220-FV]

Notice of Intent To Collect Fees on Public Land in Lewis and Clark County, Montana Under the Federal Lands Recreation Enhancement Act (REA)

AGENCY: Bureau of Land Management, Interior.

ACTION: Notice of intent.

SUMMARY: Pursuant to applicable provisions of the Federal Lands Recreation Enhancement Act, 16 U.S.C. 6801 et seq., the Bureau of Land Management (BLM)'s Butte Field Office is proposing to begin collecting fees in the spring of 2008 at the White Sandy Recreation Site on Hauser Lake, Lewis and Clark County, Montana. (Township 11 N, Range 2 W, section 5).

DATES: The public is encouraged to participate during the public comment period that will expire 30 days after publication of this notice. Effective six months after the publication of this notice, the Bureau of Land Management, Butte Field Office will initiate final preparations to implement fees in the spring of 2008 at the White Sandy Recreation Site, unless BLM publishes a Federal Register notice to the contrary. The Western Montana Resource Advisory Council (RAC) has reviewed the proposal to charge a fee at the White Sandy Recreation Site. Future adjustments in the fee amount will be modified in accordance with the Butte Field Office Recreation Fee Business Plan, consultation with the Western Montana Resource Advisory Council and other public notice prior to a fee increase.

ADDRESSES: Mail: Field Manager, Butte Field Office, 106 N. Parkmont, Butte, MT 59701.

FOR FURTHER INFORMATION CONTACT: Rick Hotaling, Field Manager Butte Field Office, 106 N. Parkmont, Butte, MT 59701. (406) 533-7600.

SUPPLEMENTARY INFORMATION: Under section 3(g) of the REA, the White Sandy Recreation Site on Hauser Lake qualifies as a site wherein visitors can be charged an “Expanded Amenity Recreation Fee.” Visitors wishing to use the expanded amenities BLM has developed at the White Sandy Recreation Site (e.g. camping and picnic areas, boat launches, day use areas) could purchase a recreation use permit as described at 43 CFR part 2930. Pursuant to the REA and implementing regulations at 43 CFR subpart 2933, fees may be charged for day-use facilities, overnight camping, and group use reservations. Specific visitor fees will be identified and posted at the site. Fees must be paid at the self-service pay station located at the site. People holding the America The Beautiful—The National Parks and Federal Recreational Lands—Senior Pass (i.e. Interagency Senior Pass), a Golden Age Passport, the America The Beautiful—The National Parks and Federal Recreational Lands—Access Pass (i.e. Interagency Access Pass) or a Golden Access Passport will be entitled to a 50 percent fee reduction on all fees except group reservations.

The White Sandy Recreation Site is a highly developed 30-unit campground and day-use site located along the Missouri River on Hauser Lake. The site is about 18 miles northeast of Helena, Montana, and is accessible via Interstate I-15, Highway 453 (Lincoln Road) and the Hauser Dam County Road. The BLM is committed to provide and receive fair value for the use of developed recreation facilities and services in a manner that meets public use demands, provides quality experiences and protects important resources. It is BLM's policy to collect fees at all specialized recreation sites or where the BLM provides facilities, equipment or services, at Federal expense, in connection with outdoor use. In an effort to meet increasing demands for services and maintenance of developed facilities, the BLM would implement a fee program for the White Sandy Recreation Site. Implementing a fee program at the White Sandy Recreation Site will help ensure that funding is available to maintain existing facilities and recreational opportunities, to provide for law enforcement presence, to develop additional services, and to protect resources. This entails communication with those who will be most directly affected by establishing fees at the White Sandy Recreation Site, for example, recreationists, other recreation providers, partners, neighbors, as well as those who will have a stake in solving concerns that may arise throughout the life of the White Sandy Recreation Site.

Acquisition and development of the White Sandy Recreation Site is consistent with the 1984 Headwaters Resource Management Plan, and was analyzed in the White Sandy Recreation Site Development and Acquisition Project Environmental Assessment (EA) of December 2004 (No. MT-070-05-06, DR/FONSI signed 12/15/04). Information concerning the proposed new fees is analyzed in that EA, which states that fees would be consistent with other established fee sites in the area and coordinated with other managing agencies, specifically, the Montana Department of Fish, Wildlife and Parks (MFWP). Future adjustments in the fee amount will be made in accordance with the Butte Field Office Recreation Fee Business Plan, consultation with the Western Montana Resource Advisory Council, and after other public notice.

In December 2004, the REA was signed into law. The REA provides authority for 10 years for the Secretaries of the Interior and Agriculture to establish, modify, charge, and collect recreation fees for use of some Federal recreation lands and waters, and contains specific provisions addressing public involvement in the establishment of recreation fees, including a requirement that Recreation Resource Advisory Committees or Councils have the opportunity to make recommendations regarding establishment of such fees. The REA also directed the Secretaries of the Interior and Agriculture to publish advance notice in the Federal Register whenever new recreation fee areas are established under their respective jurisdictions. In accordance with the BLM recreation fee program policy, the Butte Field Office Recreational Fee Business Plan explains the fee collection process, and outlines how the fees will be used at the White Sandy Recreation Site. BLM has notified and involved the public at each stage of the planning process, including the proposal to collect fees. The Western Montana Resource Advisory Council has reviewed the fee proposal as well. Fee amounts will be posted on-site and at the Butte Field Office. Copies of the Business Plan will be available at the Butte Field Office, 106 N. Parkmont, Butte, MT 59701 and the BLM Montana State Office, 5001 Southgate Drive, Billings, Montana 59101.

The BLM welcomes public comments on this proposal. Before including your address, phone number, e-mail address, or other personal identifying information in your comment, be advised that your entire comment—including your personal identifying information—may be made publicly available at any time. While you can ask us in your comment to withhold from public review your personal identifying information, we cannot guarantee that we will be able to do so.

Authority: 16 U.S.C. 6803(b).

Dated: June 1, 2007.
Rick Hotaling,
Field Manager, Butte Field Office.

[FR Doc. E7-12136 Filed 6-21-07; 8:45 am]

BILLING CODE 4310-$$-P